DEPARTMENT OF ENERGY

Federal Energy Regulatory Commission

[Docket Nos. RP01-4-003]

Midcoast Interstate Transmission, Inc.; Notice of Compliance Filing

February 21, 2001.

Take notice that on February 14, 2001, Midcoast Interstate Transmission, Inc. (MIT) tendered for filing as part of its FERC Gas Tariff, Second Revised Volume No. 1, the following tariff sheets, with an effective date of November 1, 2001:

Third Revised Sheet No. 83

First Revised Sheet No. 83C

Substitute Fourth Revised Sheet No. 84

Substitute Original Sheet No. 85A

Substitute Original Sheet No. 85B

Substitute Original Sheet No. 85C, and

Substitute Third Revised Sheet No. 86

MIT states that the filing is being made to correct certain pagination and typographical errors that were found in MIT's previous tariff filings in these proceedings. As mandated by Order No. 587-L, the revised tariff sheets are to be effective as of November 1, 2000.

Any person desiring to protest said filing should file a protest with the Federal Energy Regulatory Commission, 888 First Street, N.E., Washington, D.C. 20426, in accordance with section 385.211 of the Commission's Rules and Regulations. All such protests must be filed in accordance with section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims. htm (call 202-208-2222 for assistance).

Comments and protests may be filed electronically via the internet in lieu of paper. See, 18 CFR 385.2001(a)(1)(iii) and the instructions on the Commission's web site at http://www.ferc.fed.us/efi/doorbell.htm.

David P. Boergers,
Secretary.

[FR Doc. 01-4638 Filed 2-23-01; 8:45 am]

BILLING CODE 6717-01-M